DEPARTMENT OF HEALTH AND HUMAN SERVICES

Administration for Children and Families

Submission for OMB Review; Comment Request

Title: Child Care and Development Fund Quarterly Financial Report (ACF-696).

OMB No.: 0970-0163.

Description: States and Territories use this form to report expenditures for the Child Care and Development fund (CCDF) on a quarterly basis. The form, which is also available electronically through a Web-based application, provides specific data regarding expenditures, obligations, and estimates. It provides states and Territories with a mechanism to request grant awards and certify the availability of State matching funds. Failure to collect this data could seriously compromise the ability of the Administration for Children and Families (ACF) to monitor expenditures. This form may also be used to prepare ACF budget submissions to Congress. Office and Management Budget approval for the current form expires on March 31, 2007.

Respondents: States and Territories that are CCDF grantees.

Annual Burden Estimates
Instrument | Number of respondents | Number of responses per respondent | Average burden hours per response | Total burden hours
ACF-696 | 56 | 4 | 5 | 1,120

Estimated Total Annual Burden Hours: 1,120.

Additional Information: Copies of the proposed collection may be obtained by writing to the Administration for Children and Families, Office of Administration, Office of Information Services, 370 L'Enfant Promende, SW., Washington, DC 20447, Attn: ACF Reports Clearance Officer. All requests should be identified by the title of the information collection. E-mail address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-6974, Attn: Desk Officer for the Administration for Children and Families.

Dated: February 13, 2007.
Robert Sargis,
Reports Clearance Officer.

[FR Doc. 07-775 Filed 2-20-07; 8:45 am]

BILLING CODE 4184-07-M